DEPARTMENT OF ENERGY

Environmental Management Site-Specific Advisory Board, Idaho Cleanup Project

AGENCY: Office of Environmental Management, Department of Energy.

ACTION: Notice of open meeting.

SUMMARY: This notice announces an in-person/virtual meeting of the Environmental Management Site-Specific Advisory Board (EM SSAB), Idaho Cleanup Project (ICP). The Federal Advisory Committee Act requires that public notice of this meeting be announced in the Federal Register.

DATES: Thursday, October 23, 2025; 9 a.m.-4:30 p.m. MDT.

ADDRESSES: Residence Inn, 635 West Broadway, Idaho Falls, Idaho 83402. This meeting will be open to the public in-person at the Residence Inn and virtually via Zoom. To attend virtually, please contact Cecelia Hruska, ICP Citizens Advisory Board (CAB) Administrator, by email at idahoCAB@icp.doe.gov or phone (208) 533-3800, no later than 5 p.m. MDT on Monday, October 20, 2025.

FOR FURTHER INFORMATION CONTACT: Cecelia Hruska, ICP CAB Administrator, by email at idahoCAB@icp.doe.gov or phone (208) 533-3800 or visit the Board's internet homepage at https://energy.gov/em/icpcab.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on other EM program components. The Board also provides an avenue to fulfill public participation requirements outlined in the National Environmental Policy Act (NEPA), the Comprehensive Environmental Response, Compensation, and Liability Act (CERLA), the Resource Conservation and Recovery Act (RCRA), Federal Facility Agreements, Consent Orders, Consent Decrees and Settlement Agreements.

Tentative Agenda (agenda topics are subject to change; please contact Cecelia Hruska for the current agenda):

○ Recent Public Outreach

○ ICP Progress Updates

○ Public Comment Period

○ Board Business

Public Participation: The meeting is open to the public and public comment can be given orally or in writing. Fifteen minutes are allocated during the meeting for public comment and those wishing to make oral comment will be given a minimum of two minutes to speak. To sign up for public comment, please contact the ICP CAB Administrator (above) no later than 5 p.m. MST on Monday, October 20, 2025. Written comments received at least two working days prior to the meeting will be provided to the members and included in the meeting minutes. Written comments received within two working days after the meeting will be included in the minutes. For additional information on public comment and to submit written comment, please contact the ICP CAB Administrator. The EM SSAB, Idaho Cleanup Project, welcomes the attendance of the public at its meetings and will make every effort to accommodate persons with physical disabilities or special needs. If you require special accommodations due to a disability, please contact the ICP CAB Administrator at least seven days in advance of the meeting.

Meeting conduct: The Designated Federal Officer is empowered to conduct the meeting in a fashion that will facilitate the orderly conduct of business. Questioning of board members or presenters by the public is not permitted.

Minutes: Minutes will be available by writing or calling Cecelia Hruska, ICP Administrator, phone (208) 533-3800 or email idahoCAB@icp.doe.gov. Minutes will also be available at the following website: https://www.energy.gov/em/icpcab/listings/cab-meetings.

Signing Authority: This document of the Department of Energy was signed on September 22, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on September 23, 2025.
Jennifer Hartzell,
Alternate Federal Register Liaison Officer, U.S. Department of Energy.

[FR Doc. 2025-18628 Filed 9-24-25; 8:45 am]

BILLING CODE 6450-01-P